DEPARTMENT OF COMMERCE

International Trade Administration

[A-570-836]

Glycine from the People's Republic of China: Final Results of Antidumping Duty Administrative Review

AGENCY: Import Administration, International Trade Administration, Department of Commerce

DATES: Effective Date: October 18, 2012.

SUMMARY: On April 11, 2012, the Department of Commerce (the Department) published the preliminary results of the administrative review of the antidumping duty order on glycine from the People's Republic of China (PRC) ¹ in the Federal Register. We revised the preliminary results on June 27, 2012, and issued the results to all interested parties for comment.² We have analyzed all comments received by the parties and have made changes to the margin calculation with respect to the sole company subject to this review, Baoding Mantong Fine Chemistry Co. Ltd. (Baoding Mantong), for the final results.

¹ See Glycine From the People's Republic of China: Preliminary Results of Antidumping Duty Administrative Review and Partial Rescission of Antidumping Duty Administrative Review, 77 FR 21738 (April 11, 2012) (Preliminary Results).

² See Memorandum to the File, through Angelica Mendoza, Program Manager, Antidumping and Countervailing Duty Operations, Office 7, dated June 27, 2012, entitled, “Revisions to Certain Surrogate Valuations and the Preliminary Margin-Calculation Program for Baoding Mantong Fine Chemistry Co., Ltd.” (Revised Preliminary Results).

FOR FURTHER INFORMATION CONTACT: Edythe Artman or Angelica Mendoza, AD/CVD Operations, Office 7, Import Administration, International Trade Administration, U.S. Department of Commerce, 14th Street and Constitution Avenue NW., Washington, DC 20230; telephone: (202) 482-3931 or (202) 482-3019, respectively.

SUPPLEMENTARY INFORMATION:

Period of Review

The period of review is March 1, 2010, through February 28, 2011.

Scope of the Order

The product covered by the order is glycine, which is a free-flowing crystalline material, like salt or sugar. Glycine is produced at varying levels of purity and is used as a sweetener/taste enhancer, a buffering agent, reabsorbable amino acid, chemical intermediate, and a metal complexing agent. This review covers glycine of all purity levels. Glycine is currently classified under subheading 2922.49.4020 of the Harmonized Tariff Schedule of the United States (HTSUS). Although the HTSUS subheading is provided for convenience and Customs purposes, the written description of the merchandise subject to the order is dispositive.

Background

On April 11, 2012, the Department published the Preliminary Results in the Federal Register. The Department provided interested parties with the opportunity to comment on the preliminary results of review and to submit, pursuant to 19 CFR 351.301(c)(3)(ii) and 351.408(c), publicly available information to value factors of production within 20 days after the date of publication of the results. The domestic interested party, GEO Specialty Chemicals, Inc. (GEO), submitted factor-valuation information on May 1, 2012. GEO and the sole respondent in this review,³ Baoding Mantong, submitted case briefs on May 11, 2012, and Baoding Mantong submitted rebuttal comments on May 16, 2012. Based on the comments received, we made revisions to certain surrogate valuations and the preliminary margin-calculation program for Baoding Mantong. We released the Revised Preliminary Results of review to all interested parties on June 27, 2012.

³ We rescinded this review with respect to 29 other companies after GEO submitted a timely request to withdraw its request for review of these companies. Preliminary Results, 77 FR at 21739.

Both GEO and Baoding Mantong submitted comments and factor-valuation information on the Revised Preliminary Results on July 16, 2012, and rebuttal comments on July 23, 2012. On July 31, 2012, we extended fully the deadline of the final results of review from August 9, 2012, to October 9, 2012.⁴

⁴ See Memorandum to Christian Marsh, Deputy Assistant Secretary for Antidumping and Countervailing Duty Operations, from Edythe Artman, International Trade Compliance Analyst, regarding “Glycine from the People's Republic of China: Extension of Deadline for Final Results of Antidumping Duty Administrative Review,” dated July 31, 2012.

Analysis of Comments Received

All issues raised in the case and rebuttal briefs and additional comments received by parties to this review are addressed in the memorandum to Paul Piquado, Assistant Secretary for Import Administration, from Christian Marsh, Deputy Assistant Secretary for Antidumping and Countervailing Duty Operations, entitled, “Issues and Decision Memorandum for the Final Results in the Administrative Review of Glycine from the People's Republic of China” (Decision Memorandum), which is dated concurrently with, and adopted by, this notice. A list of the issues which parties raised, and to which we respond in the Decision Memorandum is attached to this notice as an Appendix. The Decision Memorandum is a public document and is on file electronically via Import Administration's Antidumping and Countervailing Duty Centralized Electronic Service System (IA ACCESS). Access to IA ACCESS is available to registered users at http://iaaccess.trade.gov and in the Central Records Unit (CRU), room 7046 of the main Department of Commerce building. In addition, a complete version of the Issues and Decision Memorandum can be accessed directly on the internet at http://www.trade.gov/ia/. The signed Decision Memorandum and the electronic versions of the Decision Memorandum are identical in content.

Changes Since the Revised Preliminary Results

Based on a review of the record and comments received from parties regarding our preliminary results and Revised Preliminary Results, we have made no changes to the margin calculation for Baoding Mantong in these final results of review. However, following our preliminary results, we asked the company to provide additional information concerning international freight expenses on its constructed-export-price sales. The company did not respond to our request within the applicable deadline and, as a result, we have applied surrogate freight expenses to some constructed-export-price sales for which freight services may have been provided by a non-market-economy carrier.

Separate Rates Determination

In our Preliminary Results, we determined that Baoding Mantong met the criteria for separate-rate status. We have not received any information since issuance of the preliminary results that provides a basis for reconsidering this preliminary determination. Therefore, the Department continues to find that Baoding Mantong meets the criteria for a separate rate.

Final Results of the Review

The Department has determined that the following margin exists for the period March 1, 2010, through February 28, 2011:

Exporter | Margin (percent)
Baoding Mantong Fine Chemistry Co., Ltd | 453.79

Assessment Rates

Consistent with these final results, and pursuant to section 751(a)(2)(B) of the Tariff Act of 1930, as amended (the Act), and 19 CFR 351.212(b)(1), the Department will direct U.S. Customs and Border Protection (CBP) to assess antidumping duties on all appropriate entries. The Department will issue appropriate assessment instructions to CBP 15 days after the date of publication of the final results of this review. In accordance with 19 CFR 351.212(b)(1), we have calculated, whenever possible, an exporter/importer (or customer)-specific assessment rate or value for merchandise subject to these reviews as described below. We will instruct CBP to assess antidumping duties on all appropriate entries covered by this review if any exporter/importer-specific assessment rate calculated in the final results of this review is above de minimis.

Export Price Sales

With respect to export-price sales for these final results, we divided the total dumping margins (calculated as the difference between normal value and export-price) for each exporter's importer or customer by the total number of units the exporter sold to that importer or customer. We will direct CBP to assess the resulting per-unit dollar amount against each unit of merchandise in each of that importer's/customer's entries during the review period.

Constructed Export Price Sales

For constructed-export-price sales, we divided the total dumping margins for the reviewed sales by the total entered value of those reviewed sales for each importer. We will direct CBP to assess the resulting assessment rate against the entered customs values for the subject merchandise on each of that importer's entries during the review period. See 19 CFR 351.212(b).

Cash-Deposit Requirements

The following cash-deposit requirements will be effective upon publication of these final results of review for all shipments of subject merchandise entered, or withdrawn from warehouse, for consumption on or after the publication date, as provided by section 751(a)(2)(C) of the Act: (1) For the exporters listed above, the cash deposit rate will be the rate established in the final results of this review (i.e., Baoding Mantong) (except that if the rate for a particular company is de minimis, i.e., less than 0.5 percent, no cash deposit will be required for that company); (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 155.89 percent; and (4) for all non-PRC exporters of subject merchandise which have not received their own rate, the cash deposit rate will be the rate applicable to the PRC exporters that supplied that non-PRC exporter. These cash deposit requirements, when imposed, shall remain in effect until further notice.

Notification to Importers

This notice serves as a final reminder to importers of their responsibility under 19 CFR 351.402(f)(2) to file a certificate regarding the reimbursement of antidumping duties prior to liquidation of the relevant entries during this period of review. Failure to comply with this requirement could result in the Secretary's presumption that reimbursement of antidumping duties occurred and the subsequent assessment of double antidumping duties.

Administrative Protective Order

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this administrative review and notice in accordance with sections 751(a)(1) and 777(i) of the Act.

Dated: October 9, 2012.
Paul Piquado,
Assistant Secretary for Import Administration.

Appendix

Comment 1: Valuation of Liquid Chlorine

Comment 2: Valuation of Liquid Ammonia

Comment 3: Valuation of Formaldehyde

Comment 4: Valuation of Steam Coal

Comment 5: Valuations of By-Products

Comment 6: Valuation of Surrogate Financial Ratios

Comment 7: Implementation of Verification Findings

Comment 8: Import Data Extracted in Incorrect Currency

Comment 9: Errors in the Calculations of Surrogate Values for Packing Materials

[FR Doc. 2012-25595 Filed 10-17-12; 8:45 am]

BILLING CODE 3510-DS-P